DEPARTMENT OF COMMERCE

International Trade Administration

(C-427-819, C-428-829, C-421-809, C-412-821)

Low Enriched Uranium from France, Germany, the Netherlands, and the United Kingdom: Extension of Final Results of Countervailing Duty Administrative Reviews

AGENCY: Import Administration, International Trade Administration, Department of Commerce.

ACTION: Notice of Extension of Time Limit for Final Results of Countervailing Duty Administrative Reviews.

EFFECTIVE DATE: June 7, 2004.

FOR FURTHER INFORMATION CONTACT: Darla Brown, Office of AD/CVD Enforcement VI, Import Administration, International Trade Administration, U.S. Department of Commerce, 14th Street and Constitution Avenue, NW, Washington, DC 20230; telephone: (202) 482-2786.

Statutory Time Limits

Section 751(a)(3)(A) of the Tariff Act of 1930, as amended (the Act), requires the Department of Commerce (Department) to make a preliminary determination within 245 days after the last day of the anniversary month of an order/finding for which a review is requested and a final determination within 120 days after the date on which the preliminary determination is published. However, if it is not practicable to complete the review within the time period, section 751(a)(3)(A) of the Act allows the Department to extend these deadlines to a maximum of 365 days and 180 days, respectively.

Background

On February 5, 2004, the Department of Commerce (the Department) published in the Federal Register its preliminary results of administrative reviews of the countervailing duty (CVD) orders on low enriched uranium from France, Germany, the Netherlands, and the United Kingdom for the period May 14, 2001, through December 31, 2002 (see Preliminary Results of Countervailing Duty Administrative Reviews: Low Enriched Uranium from Germany, the Netherlands, and the United Kingdom, 69 FR 5498 (February 5, 2004) and Preliminary Results of Countervailing Duty Administrative Review: Low Enriched Uranium from France, 69 FR 5502 (February 5, 2004)). The final results are currently due no later than June 4, 2004.

Extension of Time Limit for Final Results of Reviews

We determine that these cases are extraordinarily complicated because there are a large number of complex issues which require thorough consideration and analysis by the Department, including numerous existing programs from the original investigation and changes to certain programs found countervailable in the investigation. Therefore, we require more time to properly analyze these issues. As a result, it is not practicable to complete the final results of these reviews within the original time limits. Therefore, the Department is extending the time limits for completion of the final results until no later than June 30, 2004. This date constitutes a 26-day extension for the administrative reviews of low enriched uranium from France, Germany, the Netherlands, and the United Kingdom.

This extension is in accordance with section 751(a)(3)(A) of the Act.

Dated: May 27, 2004.
Thomas F. Futtner,
Acting Deputy Assistant Secretary for Import Administration.

[FR Doc. 04-12805 Filed 6-4-04; 8:45 am]

BILLING CODE 3510-DS-S